ENVIRONMENTAL PROTECTION AGENCY

[EPA-R05-RCRA-2017-0199; FRL-9963-64--Region 5]

Minnesota: Notice of Determination of Adequacy of Minnesota's Research, Development and Demonstration (RD&D) Permit Provisions for Municipal Solid Waste Landfills (MSWLF)

AGENCY: Environmental Protection Agency (EPA).

ACTION: Notice.

SUMMARY: On May 10, 2016, EPA issued a revision to the regulations allowing RD&D permits to increase the number of permit renewals allowed to six, for a total permit term of up to 21 years (40 CFR 258.4).

On March 24, 2017, Minnesota Pollution Control Agency (MPCA) submitted a notification to EPA Region 5 seeking federal approval of its current RD&D permitting program (Minnesota Rules (Minn. R.) 7035.0450), which incorporates by reference the changes to 40 CFR 258.4. Subject to public review and comment, this notice approves Minnesota's RD&D permit requirements.

DATES: This determination of adequacy of Minnesota's RD&D permitting program will become effective August 18, 2017 unless adverse comments are received. If adverse comments are received, EPA will review those comments and publish another Federal Register document responding to those comments and either affirm or revise EPA's initial decision. Comments on this action must be received on or before July 19, 2017.

ADDRESSES: Submit your comments, identified by Docket ID No. EPA-R05-RCRA-2017-0199, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, the full EPA public comment policy, information about CBI or multimedia submissions, and general guidance on making effective comments, please visit http://www2.epa.gov/dockets/commenting-epa-dockets.

FOR FURTHER INFORMATION CONTACT: Camille Lukey, U.S. EPA Region 5, Land and Chemicals Division, 77 West Jackson Boulevard LM-16J, Chicago, Illinois 60604, (312) 886-0880, lukey.camille@epa.gov.

SUPPLEMENTARY INFORMATION:

A. Background

On March 22, 2004, EPA issued a final rule amending the MSWLF criteria in 40 CFR 258 to allow for RD&D permits (69 FR 13242). This rule allows for variances from specified criteria for a limited period of time, to be implemented through state-issued RD&D permits. RD&D permits are available only in states with approved MSWLF permit programs that have been modified to incorporate RD&D permit authority. On May 10, 2016, the EPA issued a revision to the regulations allowing RD&D permits to increase the number of permit renewals allowed to six, for a total permit term of up to 21 years (40 CFR 258.4).

While states are not required to incorporate this new provision, those states interested in providing RD&D permits must seek approval from EPA before issuing such permits. On February 15, 2005, Minnesota received approval of its RD&D permit program (Minn. R. 7035.0450). On March 24, 2017, MPCA submitted a notification to EPA Region 5 seeking Federal approval of its RD&D requirements per the procedures in 40 CFR 239.12. Minnesota's rules authorizing RD&D permits (Minn. R. 7035.0450) do not establish a specific term in years and instead incorporate by reference 40 CFR 258.4. Therefore, Minn. R. 7035.0450 automatically updates with the additional permit renewal revision in 40 CFR 258.4.

B. Decision

EPA has made a determination that the Minnesota RD&D permit provisions as set out in Minn. R.7035.0450 comply with the Federal criteria, as set forth in 40 CFR 258.4.

Authority: This action is issued under the authority of section 2002, 4005 and 4010(c) of the Solid Waste Disposal Act, as amended, 40 U.S.C. 6912, 6945 and 6949(a).

Dated: May 24, 2017.
Robert A. Kaplan,
Acting Regional Administrator, Region 5.

[FR Doc. 2017-12740 Filed 6-16-17; 8:45 am]

BILLING CODE 6560-50-P